DEPARTMENT OF HEALTH AND HUMAN SERVICES

Administration for Children and Families

Submission for OMB Review, Comment Request

Title: Evaluation of the Head Start Region III I am Moving, I am Learning (IM/IL) Program.

OMB No.: New Collection.

Description: The purpose of this evaluation is to examine the implementation of the Head Start project I am Moving, I am Learning (IM/IL) as a preventive intervention targeting obesity in children. IM/IL was designed to fit within the Head Start Performance Standards and the Head Start Child Outcomes Framework through enhancements to current teaching and family support practices by providing more focused guidance on quality movement, gross and fine motor development, and child nutrition.

This data collection will be conducted among programs implementing IM/IL in Region III, and will gain information about each site's program context and service components, including level of adoption of IM/IL enhancements, intensity of implementation, and sustainability of enhancements. Progress toward achieving outcomes and goals of the IM/IL program that can be measured will also be assessed.

Respondents: Head Start directors, management teams, teachers, and staff in Region III that received spring 2006 IM/IL training; parents or guardians of children who attend Head Start programs where IM/IL is being implemented.

Annual Burden Estimates
Instrument | Number of respondents | Number of responses per respondent | Average burden hours per response | Total burden hours
Director/Manager Questionnaire | 65 | 1 | 0.84 | 54.6
Director/Manager Telephone Interview | 30 | 1 | 1.5 | 45.0
Teacher/Home Visitor Telephone Interview | 60 | 1 | 0.5 | 30.0
Director Interview | 16 | 1 | 2.0 | 32.0
Key Management Staff Interview | 48 | 1 | 1.5 | 72.0
Teacher/Home Visitor Focus Group | 80 | 1 | 1.5 | 120.0
Parent Focus Group | 160 | 1 | 1.5 | 240.0

Estimated Total Annual Burden Hours: 593.6.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF, E-mail address: Karen_T._Matsuoka@omb.epo.gov.

Dated: November 3, 2006.
Robert Sargis,
Reports Clearance Officer.

[FR Doc. 06-9111 Filed 11-7-06; 8:45am]

BILLING CODE 4184-01-M